FEDERAL COMMUNICATIONS COMMISSION

[DA 11-1216]

Consumer Advisory Committee

AGENCY: Federal Communications Commission.

ACTION: Notice.

SUMMARY: The Commission announces appointment of members and chairperson to its Consumer Advisory Committee (Committee) pursuant to its renewed charter. The Commission further announces the Committee's next meeting date, time, and agenda. The purpose of the Committee is to make recommendations to the Commission regarding matters within the jurisdiction of the Commission and to facilitate the participation of all consumers in proceedings before the Commission.

DATES: The meeting of the Committee will take place on August 17, 2011, 9 a.m. to 4 p.m., at the Commission's Headquarters Building, Room TW-C305.

ADDRESSES: Federal Communications Commission, 445 12th Street, SW., Washington, DC 20554.

FOR FURTHER INFORMATION CONTACT: Scott Marshall, Consumer and Governmental Affairs Bureau, (202) 418-2809 (voice or TTY), or e-mail Scott.Marshall@fcc.gov.

SUPPLEMENTARY INFORMATION: This is a summary of the Commission's document DA 11-1216, released July 20, 2011, announcing the appointment of members and chairperson to the Committee and the agenda, date and time of the Committee's next meeting. By public notice, DA-11-50, dated and released January 11, 2011, as published at 76 FR 3633, January 20, 2011, the Commission announced the renewal of the Committee's charter effective November 17, 2010. In addition, pursuant to the same public notice, the Commission solicited applications for membership on the Committee.

During the Committee's sixth term, it is anticipated that the Committee will meet in Washington, DC for a minimum of two (2) one-day plenary meetings per year. In addition, as needed, working groups or subcommittees will be established to facilitate the Committee's work between meetings of the full Committee. Members must be willing to commit to a two (2) year term of service, should be willing and able to attend a minimum of two (2) one-day plenary committee meetings per year in Washington, DC. Committee members are also expected to participate in deliberations of at least one (1) working group or subcommittee.

Appointment of Members and Chairperson

By document DA 11-1216, the Commission appoints thirty-one (31) members to its Consumer Advisory Committee. Of this number, two (2) represent the interests of academia; eleven (11) represent the interests of consumers; six (6) represent the interests of the disability community; two (2) represent the interests of government/regulators; seven (7) represent the interests of industry, and three (3) represent the interests of tribal/low income/minority communities. The Committee's slate is designed to be representative of the Commission's many constituencies, and the diversity selected will provide a balanced point of view as required by the Federal Advisory Committee Act. All re-appointments are effective immediately and shall terminate November 17, 2012, or when the Committee is terminated, whichever is earlier.

The roster as appointed by Chairman Julius Genachowski is as follows:

Ms. Debra Berlyn, representing the National Consumers League, is re-appointed chairperson of the Committee.

Members by organization and primary representative name include:

AARP—Chris Baker

American Consumer Institute—Stephen Pociask

American Foundation for the Blind—Paul Schroeder

Appalachian Regional Commission—Mark Defalco

Benton Foundation—Cecilia Garcia

Call For Action—Shirley Rooker

Coleman Institute for Cognitive Disabilities—Clayton Lewis

Consumer Action—Ken McEldowney

Consumer Federation of America—Irene E. Leech

Consumer Electronics Association—Julie Kearney

Center for Media Justice—Amalia Deloney

CTIA The Wireless Association—K. Dane Snowden

Deaf and Hard of Hearing Consumer Action Network—Claude Stout

Digital Policy Institute—Barry Umansky

Hearing Loss Association of America—Lise Hamlin

Helen Keller National Center for Deaf-Blind Youth and Adults—Dorthy Walt

Media Literacy Project—Andrea Quijada

Montgomery County, MD, Office of Cable and Broadband Services—Mitsuko Herrera

National Asian American Coalition—Mia Martinez

National Association of Broadcasters—Joel Oxley

National Association of State Utility Consumer Advocates—Lawrence Daniels

National Cable and Telecommunications Association—Rick Chessen

National Consumer Law Center—Olivia Wein

National Consumers League—Debra Berlyn (Chairperson)

Native Public Media—Dr. Traci Morris

Rochester Institute of Technology—Raja Kushalnagar

Speech Communication Assistance by Telephone—Rebecca Ladew

Time Warner Cable—Fernando R. Laguarda

T-Mobile—Luisa Lancetti

Utility Consumers' Action Network—Michael Scott

Verizon Communications, Inc.—job share of Donna Rynex/Mary Crespy

Meeting Date, Time and Agenda

The first meeting of the Consumer Advisory Committee under its renewed charter will take place on August 17, 2011, from 9 a.m. to 4 p.m. at the Commission's headquarters building, Room TW-C305, 445 12th Street, SW., Washington, DC 20554.

At its August 17, 2011 meeting, the Committee will consider administrative and procedural matters relating to its functions. A limited amount of time will be available on the agenda for comments from the public. Alternatively, Members of the public may send written comments to: Scott Marshall, Designated Federal Officer of the Committee at the address provided above.

The meeting is open to the public and the site is fully accessible to people using wheelchairs or other mobility aids. Sign language interpreters, open captioning, assistive listening devices, and Braille copies of the agenda and handouts will be provided on site.

Meetings are also broadcast live with open captioning over the Internet from the FCC Live Web page at http://www.fcc.gov/live/.

Simultaneous with the webcast, the meeting will be available through Accessible Event, a service that works with your Web browser to make presentations accessible to people with disabilities. You can listen to the audio and use a screen reader to read displayed documents. You can also watch the video with open captioning. The Web site to access Accessible Event is http://accessibleevent.com. The Web page prompts for an Event Code which is, 005202376. To learn about the features of Accessible Event, consult its User's Guide at: http://accessibleevent.com/doc/user_guide/. Other reasonable accommodations for people with disabilities are available upon request. The request should include a detailed description of the accommodation needed and contact information. Please provide as much advance notice as possible; last minute requests will be accepted, but may be impossible to fill. Send an e-mail to fcc504@fcc.gov or call the Consumer and Governmental Affairs Bureau at 202-418-0530 (voice), 202-418-0432 (TTY).

Federal Communications Commission.
Rachel Kazan,
Chief of Staff, Consumer and Governmental Affairs Bureau.

[FR Doc. 2011-19168 Filed 7-28-11; 8:45 am]

BILLING CODE 6712-01-P